ENVIRONMENTAL PROTECTION AGENCY

[EPA-R09-OAR-2017-0507; FRL-9970-42-Region 9]

Adequacy Status of Motor Vehicle Emissions Budgets in Submitted Reasonable Further Progress Plan for San Diego 8-Hour Ozone for Transportation Conformity Purposes; California

AGENCY: Environmental Protection Agency (EPA).

ACTION: Notice of adequacy.

SUMMARY: The Environmental Protection Agency (EPA or “Agency”) is notifying the public that the Agency has found that the motor vehicle emissions budgets (“budgets”) for the Reasonable Further Progress (RFP) milestone year 2017 from the “2008 Eight-Hour Ozone Attainment Plan for San Diego County (December 2016)” (“2016 San Diego Ozone Plan” or “plan”), are adequate for transportation conformity purposes for the 2008 ozone national ambient air quality standards (NAAQS). The California Air Resources Board (CARB) submitted the 2016 San Diego Ozone Plan to the EPA on April 12, 2017, as a revision to the California State Implementation Plan (SIP). Upon the effective date of this notice of adequacy, the previously-approved budgets for the 1997 8-hour ozone standards will no longer be applicable for transportation conformity purposes, and the San Diego Association of Governments (SANDAG) and the U.S. Department of Transportation must use these adequate budgets in future transportation conformity determinations.

DATES: This finding is effective December 4, 2017.

FOR FURTHER INFORMATION CONTACT: John Kelly, EPA, Region IX, Air Division AIR-2, 75 Hawthorne Street, San Francisco, CA 94105-3901; (415) 947-4151 or kelly.johnj@epa.gov.

SUPPLEMENTARY INFORMATION: Throughout this document, whenever “we,” “us,” or “our” is used, we mean the EPA.

Today's notice is simply an announcement of a finding that we have already made. The EPA sent a letter to CARB on October 19, 2017 stating that the motor vehicle emissions budgets in the submitted 2016 San Diego Ozone Plan for the RFP milestone year 2017 are adequate for transportation conformity purposes.¹ We announced availability of the plan and related budgets on the EPA's transportation conformity Web site on July 20, 2017, requesting comments by August 21, 2017. We received no comments in response to the adequacy review posting. The finding is available at the EPA's conformity Web site: https://www.epa.gov/state-and-local-transportation/state-implementation-plans-sip-submissions-epa-has-found-adequate-or. The adequate motor vehicle emissions budgets are provided in the following table:

¹ See letter from Matthew J. Lakin, Acting Director, Air Division, EPA Region IX, to Richard Corey, Executive Officer, CARB, dated October 19, 2017.

Adequate Motor Vehicle Emissions Budgets
Budget year | Volatile organic compounds (tons per summer day) | Nitrogen oxides (tons per summer day)
2017 | 23 | 42

Transportation conformity is required by Clean Air Act section 176(c). The EPA's conformity rule requires that transportation plans, transportation improvement programs, and transportation projects conform to a state's air quality SIP and establishes the criteria and procedures for determining whether or not they conform. Conformity to a SIP means that transportation activities will not produce new air quality violations, worsen existing violations, or delay timely attainment of the NAAQS.

The criteria we use to determine whether a SIP's motor vehicle emission budgets are adequate for conformity purposes are outlined in 40 CFR 93.118(e)(4), promulgated on August 15, 1997.² We have further described our process for determining the adequacy of submitted SIP budgets in our final rule dated July 1, 2004, and we used the information in these resources in making our adequacy determination.³ Please note that an adequacy review is separate from the EPA's completeness review and should not be used to prejudge the EPA's ultimate action on the SIP. Even if we find a budget adequate, the SIP could later be disapproved.

² See 62 FR 43780 (August 15, 1997).

³ See 69 FR 40004 (July 1, 2004).

Pursuant to 40 CFR 93.104(e), within 2 years of the effective date of this notice, SANDAG and the U.S. Department of Transportation will need to demonstrate conformity to the new budgets if the demonstration has not already been made.⁴ For demonstrating conformity to the budgets in this plan, the on-road motor vehicle emissions from implementation of the transportation plan or program should be projected consistently with the budgets in this plan, i.e., by taking the county's emissions results derived from CARB's EMFAC model (short for EMission FACtor) and then rounding the emissions up to the nearest ton.

⁴ See 73 FR 4419 (January 24, 2008).

Authority: 42 U.S.C. 7401 et seq.

Dated: October 25, 2017.
Alexis Strauss,
Acting Regional Administrator, Region IX.

[FR Doc. 2017-25020 Filed 11-16-17; 8:45 am]

BILLING CODE 6560-50-P